SECURITIES AND EXCHANGE COMMISSION

[Release No. 34-70733; File No. SR-NYSEArca-2013-42]

Self-Regulatory Organizations; NYSE Arca, Inc.; Notice of Designation of a Longer Period for Commission Action on Proposed Rule Change Amending Rule 6.72 To Make the Penny Pilot Program for Options Permanent

October 22, 2013.

On August 20, 2013, NYSE Arca, Inc. (“NYSE Arca” or the “Exchange”) filed with the Securities and Exchange Commission (“Commission”), pursuant to Section 19(b)(1) of the Securities Exchange Act of 1934 (“Act”) ¹ and Rule 19b-4 thereunder,² a proposed rule change to amend NYSE Arca Rule 6.72 to make permanent the penny program for options (“Penny Pilot Program”) permanent. The proposed rule change was published for comment in the Federal Register on September 10, 2013.³ The Commission received 8 comment letters on this proposal.⁴

¹ 15 U.S.C. 78s(b)(1).

² 17 CFR 240.19b-4.

³ See Securities Exchange Act Release No. 70317 (September 4, 2013), 78 FR 55312.

⁴ See Position Paper from Michael J. Simon, Secretary, International Securities Exchange, LLC (“ISE”), dated September 19, 2013; and letters to Elizabeth M. Murphy, Secretary, Commission, from John M. Liftin, Managing Director and General Counsel, D.E. Shaw & Co., L.P., dated September 30, 2013; Michael J. Simon, Secretary, ISE, dated October 1, 2013; Benjamin R. Londergan, Chief Executive Officer, Group One Trading, L.P., dated October 1, 2013; Jenny L. Golding, Senior Attorney, Legal Division, Chicago Board Options Exchange, Incorporated, dated October 7, 2013; John C. Nagel, Managing Director and General Counsel, Citadel Securities, dated October 15, 2013; Michael J. Simon, Secretary, ISE, dated October 16, 2013; and Harris Bock, Chief Executive Officer, Dynamex Trading LLC, dated October 17, 2013 (collectively “Comment Letters”).

Section 19(b)(2) of the Act ⁵ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is October 25, 2013. The Commission is extending this 45-day time period.

⁵ 15 U.S.C. 78s(b)(2).

The Commission finds it appropriate to designate a longer period within which to take action on the proposed rule change, which relates to the Penny Pilot Program, so that it has sufficient time to consider this proposed rule change, the Comment Letters that have been submitted in connection with this proposed rule change, and NYSE Arca's forthcoming Response to the Comment Letters.

Accordingly, the Commission, pursuant to Section 19(b)(2) of the Act,⁶ designates December 9, 2013, as the date by which the Commission should either approve or disapprove, or institute proceedings to determine whether to disapprove, the proposed rule change (File No. SR-NYSEArca-2013-42).

⁶ 15 U.S.C. 78s(b)(2).

For the Commission, by the Division of Trading and Markets, pursuant to delegated authority.⁷
⁷ 17 CFR 200.30-3(a)(31).
Kevin M. O'Neill,
Deputy Secretary.

[FR Doc. 2013-25291 Filed 10-25-13; 8:45 am]

BILLING CODE 8011-01-P